DEPARTMENT OF THE INTERIOR

Fish and Wildlife Service

Receipt of Applications for Permits and Re-opening of Comment Period

AGENCY: Fish and Wildlife Service, Interior.

ACTION: Notice of receipt of applications for permits and re-opening comment period for a marine mammal permit application.

SUMMARY: The public is invited to comment on the following applications to conduct certain activities with endangered species and marine mammals.

DATES: Written data, comments or requests must be received by January 12, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531, et seq.). Written data, comments, or requests for copies of these complete applications should be submitted to the Director (See ADDRESSES above).

Applicant: Todd King, Cheyenne, WY, PRT-080017.

The applicant requests a permit to import the sport-hunted trophy of one male bontebok (Damaliscus pygargus dorcas) culled from a captive herd maintained under the management program of the Republic of South Africa, for the purpose of enhancement of the survival of the species.

Applicant: Alfredo Julian, Vancouver, WA, PRT-080046.

The applicant requests a permit to import the sport-hunted trophy of one male bontebok (Damaliscus pygargus dorcas) culled from a captive herd maintained under the management program of the Republic of South Africa, for the purpose of enhancement of the survival of the species.

George Carden Circus International, Inc, Springfield, MO, PRT-079868, 079870, 079871, and 079872.

The applicant requests permits to re-export and re-import four Asian elephants (Elephas maximus) to worldwide locations for the purpose of enhancement of the species through conservation education. The permit numbers and animals are: 079868—Vickie, 079870—Jenny, 079871—Judy, 079872—Cyd. This notification covers activities to be conducted by the applicant over a three-year period and the import of any potential progeny born while overseas.

Endangered Marine Mammals and Marine Mammals

The public is invited to comment on the following application for a permit to conduct certain activities with endangered marine mammals. The application was submitted to satisfy requirements of the Endangered Species Act of 1973, as amended (16 U.S.C. 1531, et seq.) and the Marine Mammal Protection Act of 1972, as amended (16 U.S.C. 1361 et seq.), and the regulations governing endangered species (50 CFR part 17) and marine mammals (50 CFR part 18). Written data, comments, or requests for copies of the complete application or requests for a public hearing on this application should be submitted to the Director (See ADDRESSES above). Anyone requesting a hearing should give specific reasons why a hearing would be appropriate. The holding of such a hearing is at the discretion of the Director.

Applicant: Florida Atlantic University, Boca Raton, FL, PRT-063561.

The Service is re-opening the comment period for this application submitted by Edmund R. Gerstein requesting a permit to conduct a study to archive and evaluate Florida manatee (Trichehus manatus latirostris) responses to controlled approaches with boats equipped with propeller guards for the purpose of scientific research. Some of the approaches will incorporate a device to project an alerting signal designed to be within the manatees's hearing sensitivity. A notice of receipt of this application for a permit was published in the Federal Register on December 24, 2002 (67 FR 78504), and the comment period closed on January 23, 2003. On October 20, 2003, the applicant submitted additional information in support of his application. The re-opening of the comment period will allow all interested parties to review the new information and provide the Service with any additional comments regarding these applications. This notification covers activities to be conducted by the applicant over a three-year period.

Concurrent with the publication of this notice in the Federal Register, the Division of Management Authority is forwarding copies of the above applications to the Marine Mammal Commission and the Committee of Scientific Advisors for their review.

Dated: November 21, 2003.
Monica Farris,
Senior Permit Biologist, Branch of Permits, Division of Management Authority.

[FR Doc. 03-30785 Filed 12-11-03; 8:45 am]

BILLING CODE 4310-55-P